FEDERAL COMMUNICATIONS COMMISSION

47 CFR Part 1

[FCC 04-150]

Schedule of Charges for Application Fees; Correction

AGENCY: Federal Communications Commission.

ACTION: Correcting amendment.

SUMMARY: This document contains a correction to the final rule, which was published in the Federal Register of Wednesday, July 7, 2004 (69 FR 41130). The final rule related to the Amendment of the Schedule of Application Fees.

DATES: Effective on October 1, 2004.

FOR FURTHER INFORMATION CONTACT: Claudette E. Pride, 202-418-1995; E-mail: Claudette.Pride@fcc.gov.

SUPPLEMENTARY INFORMATION:

Background

The final rule that is the subject of these corrections amends the Schedule of Applications Fees, 47 CFR 1.1102 et seq., to adjust its fees for processing applications and other filings. Section 8(b) of the Communications Act, as amended, requires that the Commission review and adjust its application fees every two years after October 1, 1991.

Need for Correction

As published, the final rule contains an error which provides the wrong fee amount and payment type code for a license to operate a direct broadcast satellite in § 1.1107, Schedule of Charges for Applications and Other Filings for the International Service.

List of Subjects in 47 CFR Part 1

Practice and procedure.

Accordingly, 47 CFR part 1 is corrected by making the following correcting amendment:

PART 1—PRACTICE AND PROCEDURE

1. The authority citation for part 1 continues to read as follows:

Authority: 47 U.S.C. 154, 303, 503(b)(5); 5 U.S.C. 552 and 21 U.S.C. 853a, unless otherwise noted.

§ 1.1107 [Amended]

2. In § 1.1107, in column 11.c., the fee amount is revised to read: “$28,920.00”.

Federal Communications Commission.
Marlene H. Dortch,
Secretary.

[FR Doc. 04-21086 Filed 9-30-04; 8:45 am]

BILLING CODE 6712-01-P